DEPARTMENT OF HOMELAND SECURITY

Federal Emergency Management Agency

44 CFR Part 67

[Docket No. FEMA-2016-0002]

Final Flood Elevation Determinations

AGENCY: Federal Emergency Management Agency; DHS.

ACTION: Final rule; correction.

SUMMARY: On October 26, 2015, FEMA published in the Federal Register a final rule that contained an erroneous table. This rule provides corrections to that table, to be used in lieu of the information published. The table provided here represents the final Base (1% annual-chance) Flood Elevations (BFEs) and modified BFEs and communities affected for St. Charles County, Missouri and Incorporated Areas.

DATES: Effective March 17, 2017. The date of issuance of the Flood Insurance Rate Map (FIRM) showing BFEs and modified BFEs for each community may be obtained by contacting the office where the maps are available for inspection as indicated in the table below.

ADDRESSES: The final BFEs for each community are available for inspection at the office of the Chief Executive Officer of each community. The respective addresses are listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: On October 26, 2015, FEMA published in the Federal Register a final rule that contained an erroneous table. This rule provides corrections to that table, to be used in lieu of the information published at 80 FR 65162-65164.

The Federal Emergency Management Agency (FEMA) makes the final determinations listed below for the modified BFEs for each community listed. These modified elevations have been published in newspapers of local circulation and ninety (90) days have elapsed since that publication. The Deputy Associate Administrator for Insurance and Mitigation has resolved any appeals resulting from this notification.

This final rule is issued in accordance with section 110 of the Flood Disaster Protection Act of 1973, 42 U.S.C. 4104, and 44 CFR part 67. FEMA has developed criteria for floodplain management in flood prone areas in accordance with 44 CFR part 60.

Interested lessees and owners of real property are encouraged to review the proof Flood Insurance Study and FIRM available at the address cited below for each community. The BFEs and modified BFEs are made final in the communities listed below. Elevations at selected locations in each community are shown.

National Environmental Policy Act. FEMA has reviewed this final rule for purposes of the National Environmental Policy Act of 1969 (42 U.S.C. 4321 et seq.) and has determined that this action will not have a significant effect on the human environment. This action is covered by categorical exclusions A4 and A 7 in Department of Homeland Security (DHS) Instruction 023-01-001-01, Appendix A.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

Correction

In the final rule published at 80 FR 65162-65164 in the October 26, 2015 issue of the Federal Register, FEMA published a table titled “St. Charles County, Missouri, and Incorporated Areas”. This table contained inaccurate information as to the community name for the City of Dardenne Prairie featured in the table. In this document, FEMA is publishing a table containing the accurate information. The information provided below should be used in lieu of that previously published.

List of Subjects in 44 CFR Part 67

Administrative practice and procedure, Flood insurance, Reporting and recordkeeping requirements.

Dated: December 21, 2016.
Roy E. Wright,
Deputy Associate Administrator for Insurance and Mitigation, Department of Homeland Security, Federal Emergency Management Agency.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
St. Charles County, Missouri and Incorporated Areas
Docket Nos.: FEMA-B-1062 and B-1167
Baltic Creek | At the confluence with Dardenne Creek Approximately 0.7 mile upstream of the confluence with Tributary 7 | +470 +492 | City of Cottleville, City of St. Peters, City of Weldon Spring, Unincorporated Areas of St. Charles County.
Blanchette Creek (Backwater from Missouri River) | Just downstream of Katy Trail/Abandoned Railroad At the confluence with the Missouri River | +455 +455 | City of St. Charles, Unincorporated Areas of St. Charles County.
Boschert Creek | At the confluence with Cole Creek Approximately 0.6 mile upstream of Sibley Street | +441 +532 | City of St. Charles, Unincorporated Areas of St. Charles County.
Cole Creek | Approximately 0.4 mile upstream of the confluence with Boschert Creek Approximately 800 feet upstream of Graystone Drive | +443 +529 | City of St. Charles.
Crooked Creek | At the confluence with Dardenne Creek Approximately 0.7 mile upstream of I-64 | +475 +574 | City of Cottleville, City of O'Fallon, City of Weldon Spring, Unincorporated Areas of St. Charles County.
Crystal Springs Creek (Backwater from Missouri River) | At the confluence with the Missouri River Approximately 871 feet upstream of South River Road | +457 +457 | City of St. Charles, Unincorporated Areas of St. Charles County.
Cunningham Branch | At the confluence with Dardenne Creek Approximately 1,250 feet upstream of State Highway D | +535 +644 | City of O'Fallon, Unincorporated Areas of St. Charles County.
Dardenne Creek | Approximately 400 feet downstream of Norfold Southern Railroad Approximately 2.3 miles upstream of Oberhelman Road | +444 +748 | City of Cottleville, City of Dardenne Prairie, City of O'Fallon, City of St. Peters, Unincorporated Areas of St. Charles County.
Duckett Creek (Overflow from Missouri River) | At the confluence with the Missouri River Approximately 0.5 miles upstream of Jungs Station Road | +462 +463 | Unincorporated Areas of St. Charles County.
East Branch Spencer Creek | At the confluence with Spencer Creek Just downstream of Boone Hills Drive. | +458 +503 | City of St. Peters.
East Branch Tributary B | At the confluence with Dardenne Creek Approximately 150 feet upstream of State Highway K | +480 +525 | City of Cottleville, City of O'Fallon, Unincorporated Areas of St. Charles County.
East Cole Creek | At the confluence with Cole Creek Approximately 600 feet upstream of Canary Lane | +457 +478 | City of St. Charles.
Femme Osage Creek (Backwater from Missouri River) | Approximately 0.4 miles downstream of State Highway 94 Approximately 1.4 miles downstream of Defiance Road | +476 +476 | Unincorporated Areas of St. Charles County.
Kraut Run | At the confluence with Dardenne Creek Approximately 1,000 feet upstream of Wilson Road | +506 +607 | Unincorporated Areas of St. Charles County.
Lake Sainte Louise | Entire shoreline within community | +546 | City of Lake St. Louis.
Little Dardenne Creek | At the confluence with Dardenne Creek Approximately 0.9 mile upstream of Morrison Lane | +554 +719 | Unincorporated Areas of St. Charles County.
Mississippi River | At the St. Charles County, Missouri/St. Louis County, Missouri/Madison County, Illinois county boundary, approximately 6.2 miles downstream of Melvin Price Lock and Dam At the St. Charles County/Lincoln County boundary, approximately 3.0 miles upstream of confluence with Peruue Creek | +434 +444 | City of O'Fallon, City of Portage Des Sioux, City of St. Charles, City of St. Paul, City of St. Peters, Town of West Alton, Unincorporated Areas of St. Charles County.
Missouri River | At the St. Charles County, Missouri/St. Louis County, Missouri/Madison County, Illinois county boundary, approximately 7.4 miles downstream of the Lewis Bridge Near the St. Charles County/Warren County boundary, approximately 22.3 miles upstream of the Daniel Boone Bridge | +434 +492 | City of St. Charles, City of Weldon Spring, Town of West Alton, Town of Augusta, Unincorporated Areas of St. Charles County.
Oday Creek | At the confluence with Dardenne Creek Approximately 425 feet upstream of State Highway N | +505 +587 | City of Lake St. Louis, City of O'Fallon, City of St. Charles, Unincorporated Areas of St. Charles County.
Old Dardenne Creek | At the confluence with Dardenne Creek | +486 | City of Dardenne Prairie.
| Approximately 350 feet upstream of U.S. Route 40/61 | +502 | City of O'Fallon, City of St. Charles, Unincorporated Areas of St. Charles County.
Peruque Creek | Approximately 0.3 mile downstream of State Highway Z Approximately 1.3 miles upstream of State Highway T | +530 +630 | City of Foristell, City of Wentzville, Unincorporated Areas of St. Charles County.
Peruque Creek Tributary 12 | At the confluence with Peruque Creek Approximately 0.4 mile upstream of Meadow Farm Lane | +471 +527 | City of St. Paul, Unincorporated Areas of St. Charles County.
Peruque Creek Tributary 14 | Approximately 0.2 mile upstream of the confluence with Peruque Creek Approximately 1,000 feet upstream of Civic Park Drive | +464 +512 | City of O'Fallon, Unincorporated Areas of St. Charles County.
Peruque Creek Tributary 15 | Approximately 900 feet upstream of the confluence with Peruque Creek Approximately 1,300 feet upstream of Main Street | +464 +507 | City of O'Fallon.
Peruque Creek Tributary 2 | At the confluence with Peruque Creek Approximately 600 feet upstream of State Highway T | +613 +734 | City of Foristell, Unincorporated Areas of St. Charles County.
Peruque Creek Tributary 8 | Approximately 1.0 mile upstream of the confluence with Peruque Creek Approximately 0.6 mile upstream of I-70 | +505 +546 | City of Lake St. Louis, City of Wentzville.
Peruque Creek Tributary 9 | Approximately 1.0 mile upstream of the confluence with Peruque Creek Approximately 0.4 mile upstream of Henke Road | +505 +539 | City of Lake St. Louis, Unincorporated Areas of St. Charles County.
Sandfort Creek | Just downstream of Norfolk Southern Railroad Approximately 350 feet downstream of Muegge Road | +442 +497 | City of St. Charles, Unincorporated Areas of St. Charles County.
Schote Creek | At the confluence with Dardenne Creek Approximately 1.6 miles upstream of U.S. Route 40/61. | +481 +583 | City of Dardenne Prairie, City of O'Fallon, Unincorporated Areas of St. Charles County.
Spencer Creek | Approximately 365 feet upstream of the railroad Approximately 1,200 feet upstream of Millwood Drive | +444 +526 | City of St. Peters, Unincorporated Areas of St. Charles County.
Taylor Branch (Backwater from Missouri River) | At the confluence with the Missouri River Approximately 0.6 miles upstream of South River Road | +460 +460 | City of St. Charles, Unincorporated Areas of St. Charles County.
Tributary A | At the confluence with Dardenne Creek Approximately 500 feet upstream of Starlight Drive | +469 +536 | City of St. Peters, Unincorporated Areas of St. Charles County.
Tributary No. 1 | At the confluence with Dardenne Creek Approximately 400 feet upstream of Harris Drive | +464 +473 | City of St. Peters, Unincorporated Areas of St. Charles County.
Tributary No. 13 | At the confluence with Dardenne Creek Approximately 700 feet upstream of McClure Road | +486 +508 | City of Dardenne Prairie, City of O'Fallon.
Tributary No. 15 | At the confluence with Dardenne Creek Approximately 300 feet upstream of Keystone Crossing Drive | +495 +567 | City of Dardenne Prairie, City of O'Fallon, Unincorporated Areas of St. Charles County.
Tributary No. 17 | Approximately 0.8 mile upstream of the confluence with Dardenne Creek Approximately 900 feet upstream of Hopewell Road | +522 +895 | City of O'Fallon, Unincorporated Areas of St. Charles County.
Tributary No. 19 | Approximately 1,300 feet upstream of the confluence with Dardenne Creek Approximately 2.1 miles upstream of the confluence with Dardenne Creek | +505 +573 | Unincorporated Areas of St. Charles County.
Tributary No. 2 | Just upstream of Ohmes Road Approximately 0.5 mile upstream of Ohmes Road | +465 +478 | City of St. Peters.
Tributary No. 3 | At the confluence with Tributary A Approximately 0.8 mile upstream of St. Peters-Howell Road | +469 +503 | Unincorporated Areas of St. Charles County.
Tributary No. 4 | At the confluence with Tributary A Approximately 1,150 upstream of Woodstream Drive | +469 +509 | City of St. Peters, Unincorporated Areas of St. Charles County.
Tributary No. 7 | At the confluence with Baltic Creek Approximately 0.8 mile upstream of Pitmann Hill Road | +482 +504 | City of St. Peters, City of Weldon Spring.
Tributary No. 9 | At the confluence with Crooked Creek Approximately 0.5 mile upstream of Guthermuth Road | +480 +497 | City of Weldon Spring, Unincorporated Areas of St. Charles County.
West Branch Spencer Creek | At the confluence with Spencer Creek Approximately 400 feet upstream of Willott Road | +450 +510 | Unincorporated Areas of St. Charles County.
West Branch Tributary B | At the confluence with East Branch Tributary B Approximately 150 feet upstream of Bryan Road | +489 +622 | City of Dardenne Prairie.
West Sandfort Creek | At the confluence with Sandfort Creek Approximately 1,400 feet upstream of Harry S. Truman Boulevard | +450 +459 | City of St. Charles, Unincorporated Areas of St. Charles County.
* National Geodetic Vertical Datum.
+ North American Vertical Datum.
# Depth in feet above ground.
‸ Mean Sea Level, rounded to the nearest 0.1 meter.
ADDRESSES
City of Cottleville:
Maps are available for inspection at City Hall, 5490 5th Street, Cottleville, MO 63338.
City of Dardenne Prairie:
Maps are available for inspection at City Hall, 2032 Hanley Road, Dardenne Prairie, MO 63368.
City of Foristell:
Maps are available for inspection at City Hall, 121 Mulberry Street, Foristell, MO 63348.
City of Lake St. Louis:
Maps are available for inspection at City Hall, 200 Civic Center Drive, Lake St. Louis, MO 63367.
City of O'Fallon:
Maps are available for inspection at City Hall, 100 North Main Street, O'Fallon, MO 63366.
City of Portage Des Sioux:
Maps are available for inspection at the County Administration Building, 201 North 2nd Street, Room 420, St. Charles, MO 63301.
City of St. Charles:
Maps are available for inspection at City Hall, 200 North 2nd Street, St. Charles, MO 63301.
City of St. Paul:
Maps are available for inspection at City Hall, 2300 St. Paul Road, St. Paul, MO 63366.
City of St. Peters:
Maps are available for inspection at City Hall, 1 St. Peters Centre Boulevard, St. Peters, MO 63376.
City of Weldon Spring:
Maps are available for inspection at City Hall, 5401 Independence Road, Weldon Spring, MO 63304.
City of Wentzville:
Maps are available for inspection at City Hall, 310 West Pearce Boulevard, Wentzville, MO 63385.
Town of Augusta:
Maps are available for inspection at Town Hall, 239 Green Street, Augusta, MO 63332.
Town of West Alton:
Maps are available for inspection at 201 North 2nd Street, Room 420, St. Charles, MO 63301.
Unincorporated Areas of St. Charles County:
Maps are available for inspection at the County Adminstration Building, 201 North 2nd Street, Room 420, St. Charles, MO 63301.

[FR Doc. 2017-05157 Filed 3-16-17; 8:45 am]

BILLING CODE 9110-12-P